DEPARTMENT OF THE TREASURY

Internal Revenue Service

26 CFR Part 1

[REG-124988-05]

RIN 1545-BE72

Updated Mortality Tables for Determining Current Liability; Hearing Cancellation

AGENCY: Internal Revenue Service (IRS), Treasury.

ACTION: Cancellation of notice of public hearing on proposed rulemaking.

SUMMARY: This document provides notice of cancellation of a public hearing on proposed rulemaking that relates to the affect plans sponsors and administrators, and participants in and beneficiaries of certain retirement plans under section 412(l)(7) of the Internal Revenue Code and section 302(d)(7) of the Employee Retirement Income Security Act of 1974.

DATES: The public hearing originally scheduled for Wednesday, April 19, 2006 at 10 a.m., is cancelled.

FOR FURTHER INFORMATION CONTACT: Treena Garrett of the Publications and Regulations Branch, Associate Chief Counsel (Procedure and Administration) at (202) 622-7180 (not a toll-free number).

SUPPLEMENTARY INFORMATION: The notice of proposed rulemaking and notice of public hearing that appeared in the Federal Register on Friday, December 2, 2005 (70 FR 72260), announced that a public hearing was scheduled for Wednesday, April 19, 2006, at 10 a.m. in the IRS Auditorium, Internal Revenue Service Building, 1111 Constitution Avenue, NW., Washington, DC. The subject of the public hearing is proposed regulations under section 412 of the Internal Revenue Code. The public comment period for these proposed regulations expired on Wednesday, March 29, 2006. Outlines of oral comments were due on Wednesday, March 29, 2006.

The notice of proposed rulemaking and notice of public hearing, instructed those interested in testifying at the public hearing to submit outlines of the topics to be addressed. As of Friday, April 7, 2006, no one has requested to speak. Therefore, the public hearing scheduled for Wednesday, April 19, 2006, is cancelled.

Guy R. Traynor,
Chief, Publications and Regulations Branch, Legal Processing Division, Associate Chief Counsel (Procedure and Administration).

[FR Doc. E6-5630 Filed 4-14-06; 8:45 am]

BILLING CODE 4830-01-P